DEPARTMENT OF THE INTERIOR

Fish and Wildlife Service

Notice of Issuance of Permit for Marine Mammals

On June 8, 2000, a notice was published in the Federal Register, Vol. 65, No. 111, Page 36455, that an application had been filed with the Fish and Wildlife Service by William McClure for a permit (PRT-027989) to import one polar bear (Ursus maritimus) trophy taken from the Lancaster Sound population, Canada for personal use.

Notice is hereby given that on August 4, 2000, as authorized by the provisions of the Marine Mammal Protection Act of 1972, as amended (16 U.S.C. 1361 et seq.), the Fish and Wildlife Service authorized the requested permit subject to certain conditions set forth therein.

On September 4, 2000, a notice was published in the Federal Register, Vol. 65, No. 193, Page 59197, that an application had been filed with the Fish and Wildlife Service by Robert Miller for a permit (PRT-034022) to import one polar bear (Ursus maritimus) trophy taken from the M'Clintock Channel population, Canada for personal use.

Notice is hereby given that on December 7, 2000, as authorized by the provisions of the Marine Mammal Protection Act of 1972, as amended (16 U.S.C. 1361 et seq.), the Fish and Wildlife Service authorized the requested permit subject to certain conditions set forth therein.

On August 4, 2000, a notice was published in the Federal Register, Vol. 65, No. 151, Page 48010, that an application had been filed with the Fish and Wildlife Service by Cererino Machado for a permit (PRT-024024) to import one polar bear (Ursus maritimus) trophy taken from the Southern Beaufort Sea population, Canada for personal use.

Notice is hereby given that on October 11, 2000, as authorized by the provisions of the Marine Mammal Protection Act of 1972, as amended (16 U.S.C. 1361 et seq.), the Fish and Wildlife Service authorized the requested permit subject to certain conditions set forth therein.

On September 19, 2000, a notice was published in the Federal Register, Vol. 65, No. 182, Page 56589, that an application had been filed with the Fish and Wildlife Service by Noah J. Horn for a permit (PRT-032748) to import one polar bear (Ursus maritimus) trophy taken from the Southern Beaufort Sea population, Canada for personal use.

Notice is hereby given that on October 26, 2000, as authorized by the provisions of the Marine Mammal Protection Act of 1972, as amended (16 U.S.C. 1361 et seq.), the Fish and Wildlife Service authorized the requested permit subject to certain conditions set forth therein.

On August 31, 2000, a notice was published in the Federal Register, Vol. 65, No. 170, Page 53027, that an application had been filed with the Fish and Wildlife Service by Lawrence Franks for a permit (PRT-032240) to import one polar bear (Ursus maritimus) trophy taken from the Southern Beaufort Sea population, Canada for personal use.

Notice is hereby given that on October 24, 2000, as authorized by the provisions of the Marine Mammal Protection Act of 1972, as amended (16 U.S.C. 1361 et seq.), the Fish and Wildlife Service authorized the requested permit subject to certain conditions set forth therein.

On August 10, 2000, a notice was published in the Federal Register, Vol. 65, No. 155, Page 49005, that an application had been filed with the Fish and Wildlife Service by Larry Masserant for a permit (PRT-031377) to import one polar bear (Ursus maritimus) trophy taken from the Lancaster Sound population, Canada for personal use.

Notice is hereby given that on October 27, 2000, as authorized by the provisions of the Marine Mammal Protection Act of 1972, as amended (16 U.S.C. 1361 et seq.), the Fish and Wildlife Service authorized the requested permit subject to certain conditions set forth therein.

On July 20, 2000, a notice was published in the Federal Register, Vol. 65, No. 140, Page 45099, that an application had been filed with the Fish and Wildlife Service by William Niederer for a permit (PRT-030197) to import one polar bear (Ursus maritimus) trophy taken from the Northern Beaufort Sea population, Canada for personal use.

Notice is hereby given that on August 29, 2000, as authorized by the provisions of the Marine Mammal Protection Act of 1972, as amended (16 U.S.C. 1361 et seq.), the Fish and Wildlife Service authorized the requested permit subject to certain conditions set forth therein.

On October 19, 2000, a notice was published in the Federal Register, Vol. 65, No. 203, Page 62747, that an application had been filed with the Fish and Wildlife Service by Branko Terkovich for a permit (PRT-034570) to import one polar bear (Ursus maritimus) trophy taken from the Lancaster Sound population, Canada for personal use.

Notice is hereby given that on December 7, 2000, as authorized by the provisions of the Marine Mammal Protection Act of 1972, as amended (16 U.S.C. 1361 et seq.), the Fish and Wildlife Service authorized the requested permit subject to certain conditions set forth therein.

On July 27, 2000, a notice was published in the Federal Register, Vol. 65, No. 145, Page 46170, that an application had been filed with the Fish and Wildlife Service by Jerry W. Peterman for a permit (PRT-030691) to import one polar bear (Ursus maritimus) trophy taken from the Northern Beaufort Sea population, Canada for personal use.

Notice is hereby given that on December 14, 2000, as authorized by the provisions of the Marine Mammal Protection Act of 1972, as amended (16 U.S.C. 1361 et seq.), the Fish and Wildlife Service authorized the requested permit subject to certain conditions set forth therein.

Documents and other information submitted for these applications are available for review by any party who submits a written request to the U.S. Fish and Wildlife Service, Division of Management Authority, 4401 North Fairfax Drive, Room 700, Arlington, Virginia 22203. Phone (703) 358-2104 or Fax (703) 358-2281.

Dated: Decmeber 15, 2000.
Anna Barry,
Branch of Permits, Division of Management Authority.

[FR Doc. 00-32496 Filed 12-20-00; 8:45 am]

BILLING CODE 4310-55-P